DEPARTMENT OF HEALTH AND HUMAN SERVICES

Administration for Children and Families

Notice of Issuance of Final Policy Directive

AGENCY: Administration for Native Americans, Administration for Children and Families, HHS.

ACTION: Notice of Issuance of Final Policy Directive.

SUMMARY: The Administration for Native Americans (ANA) herein issues final interpretive rules, general statements of policy and rules of agency organization, procedure or practice relating to the Social and Economic Development Strategies (hereinafter referred to as SEDS), Social and Economic Development Strategies for Alaska (hereinafter referred to as SEDS-AK), Native Language Preservation and Maintenance Assessment (hereinafter referred to as Native Language Assessment), Native Language Preservation and Maintenance Planning (hereinafter referred to as Native Language Planning), Native Language Preservation and Maintenance Implementation (hereinafter referred to as Native Language Implementation), Native Language Preservation and Maintenance Immersion (hereinafter referred to as Native Language Immersion), Family Preservation—Improving the Well-Being of Children Project Planning (hereinafter referred to as Family Preservation Planning), Family Preservation—Improving the Well-Being of Children Project Implementation (hereinafter referred to as Family Preservation Implementation) and Environmental Regulatory Enhancement (hereinafter referred to as ERE).

DATES: November 21, 2008.

FOR FURTHER INFORMATION CONTACT: Sheila K. Cooper, Director of Program Operations, at (877) 922-9262.

SUPPLEMENTARY INFORMATION: Section 814 of the Native American Programs Act of 1974, as amended, requires ANA to provide members of the public an opportunity to comment on proposed changes in interpretive rules, general statements of policy and rules of agency organization, procedure or practice, and to give notice of the final adoption of such changes at least 30 days before the changes become effective.

ANA published a Notice of Public Comment (NOPC) in the Federal Register on October 7, 2008 (73 FR 58594), on the proposed ANA policy and program clarifications, modifications and activities for the FY 2009 Program Announcements (PAs). The NOPC closed November 5, 2008. ANA did not receive any public comments on the NOPC, and this notice shall suffice as ANA's final policy.

Introduction: This Notice of Issuance of Final Policy Directive (NOI) addresses two groups of changes:

• Changes made across all program areas (Part I of NOI). Changes in Part I apply to all PAs.

• Changes made to specific program areas (Part II of NOI). ANA has made significant changes to the SEDS, SEDS-AK, Native Language Assessment, Native Language Planning, Native Language Implementation, Native Language Immersion, Family Preservation Planning, Family Preservation Implementation and ERE. These changes are outlined in Part II.

Note: The Environmental Mitigation program area is no longer offered through ANA. Most funds from the appropriation under 8094A of Pub. L. 103-335 were expended. A nominal amount of funding was returned to the Treasury due to low public demand for the program area.

I. All PAs will be revised to clarify program and application submission requirements for the public. These changes appear in the following sections: ANA Administrative Policies (Part A of NOI), Definitions (Part B of NOI) and Application Evaluation Criteria (Part C of NOI).

(A) ANA Administrative Policies: Two statements will be revised to clarify ANA's policies. The first statement relates to the CFDA number and clarifies that grantees cannot be funded in more than one program area at the same time. The division of Program Announcements from four to nine does not impact this policy. Furthermore, the statement clarifies that grantees cannot have both a SEDS project and a Family Preservation Planning or a Family Preservation Implementation grant at the same time. The second statement relates to applications from Tribally authorized divisions.

The revised statements in the FY 2009 PA will be:

An applicant can have only one active ANA grant per CFDA number operating at any given time.

ANA will not accept applications from Tribal components that are Tribally chartered or authorized divisions of a Tribe unless the ANA application includes a Tribal Resolution.

(B) ANA Definitions: ANA has added two new definitions and clarified the definition of two words. These new and revised definitions are provided for areas that applicants have found difficult to interpret, have previously prompted numerous questions or have created application and project development inconsistencies. (Legal authority: Section 803(a) and (d) and 803C of the Native American Programs Act of 1974, as amended, 42 U.S.C. 2991b and 2991b-3.)

i. New Definitions: The FY 2009 PA includes definitions for the following terms: contingency plan and governing body.

The FY 2009 PAs will include these new definitions:

Contingency plan: A plan that identifies specific actions to be taken in the event a specific challenge arises. The purpose of a contingency plan is to reduce the negative impacts on the project. The contingency plan should ensure that the project will be successfully completed within the proposed funding timeframe. A contingency plan is not to pre-empt challenges, but rather to address challenges if they arise.

Governing Body: A body: (1) Consisting of duly elected or designated representatives, (2) appointed by duly elected officials or (3) selected in accordance with traditional Tribal means. The body must have authority to provide service to, and to enter into contracts, agreements and grants under this part on behalf of the organization or individuals who elected, designated, appointed or selected them in accordance with traditional Tribal means.

ii. Revised Definitions: The FY 2009 PA clarifies definitions for the following terms: leveraged resources and resolution.

The FY 2009 PA revised definitions will be:

Leveraged Resources: The non-ANA resources, as expressed as a dollar figure, acquired during the project period that support the project and exceed the 20 percent applicant match required for ANA grants. Such resources may include any natural, financial and physical resources available within the Tribe, organization or community to assist in the successful completion of the project. An example would be an organization that agrees to provide a supportive action, product, service, human or financial contribution that will add to the potential success of the project.

Resolution: Applicants are required to include a current signed and dated Resolution (a formal decision voted on by the official governing body) in support of the project for the entire project period. Tribally chartered or authorized divisions must submit a Resolution from the Tribe's official governing body if the division falls under the jurisdiction of the Tribe. The Resolution must indicate who is authorized to sign documents and negotiate on behalf of the Tribe or organization. The Resolution must indicate that the community was involved in the project planning process, and indicate the specific dollar amount of any eligible matching funds (if applicable).

(C) ANA Application Evaluation Criteria: In order to clarify for the applicant specific information requests in the evaluation criteria, additional explanation is included for the following sub-criteria: Community Involvement in Objectives and Need for Assistance criterion; Project Strategy, Project Challenges and Contingency Planning, and Objective Work Plan in Approach criterion; and Budget Justification/Cost Effectiveness in Budget and Budget Justification criterion.

i. Community Involvement sub-criterion in Objectives and Need for Assistance criterion. A sentence was added to identify for applicants what details are needed for documentation of community meetings. (Legal authority: Section 803(a) and (d) and 803C of the Native American Programs Act of 1974, as amended, 42 U.S.C. 2991b and 2991b-3.)

The new FY 2009 PA text for Community Involvement will be:

Community Involvement (6 points): Describe in detail how the community to be served was involved in the planning process and the origins of the project idea. Describe within the project proposal how the identified community participated in the development of the project. Demonstrate and document community and/or Tribal government support for the project. Discuss the relationship of any non-ANA-funded activities supportive of the project. Documented support is a critical element of this evaluation criterion and includes, but is not limited to, materials such as letters of support, testimonials and community meeting minutes. Documented support should include the date and topic of the meeting and a summary of the meeting outcome.

ii. Project Strategy sub-criterion in Approach criterion. The description was expanded to clarify for applicants that the strategy should be an overview of the Objective Work Plan and that the applicants should clearly identify how the proposed project is different from similar, previously ANA-funded projects. (Legal authority: Section 803(a) and (d) and 803C of the Native American Programs Act of 1974, as amended, 42 U.S.C. 2991b and 2991b-3.)

The new FY 2009 PA text for Project Strategy will be:

Project Strategy (10 points): Present a narrative on the project strategy and implementation plan (Objective Work Plan—see below) for the entire project period. Be clear and concise. Provide a clear relationship between the proposed project goal and the project objectives. Discuss how the project objectives will support and assist the achievement of the project goal. Discuss how the project goal will support and assist the achievement of the community's long-range goals. Discuss how the current proposed project differs from previously ANA-funded projects, which may be similar in nature to the current proposed project.

iii. Project Challenges and Contingency Planning in Approach criterion. The description was expanded to clarify for applicants what ANA is requesting in a contingency plan. (Legal authority: Section 803(a) and (d) and 803C of the Native American Programs Act of 1974, as amended, 42 U.S.C. 2991b and 2991b-3.)

The new FY 2009 PA text for Project Challenges and Contingency Planning will be:

Project Challenges and Contingency Planning (5 points): Based on ANA's project funding history and information gathered from project impact evaluations, ANA has determined that all projects encounter challenges and therefore need to have a contingency plan should a significant challenge arise. Challenges can arise because applicants make assumptions about critical events, conditions and/or decisions outside of the control of project management. The applicant needs to identify challenges that may arise during the project's initial start up and throughout the project period. Consider such challenges as difficulty hiring and retaining key staff, difficulty recruiting community members and/or volunteers for project activities, difficulty recruiting target audience (e.g., students, children, elders), difficulty securing agreed-upon support from partners to provide services/funding, planning shortfalls, possible disruption of the project timeline due to Tribal elections and difficulty securing permits or licensing from government entities. Identify potential challenges and explain the contingency plans (see Definitions) that will be implemented to overcome those challenges. The contingency plan should ensure that the project will be successfully completed within the proposed funding timeframe. A contingency plan is not to pre-empt challenges, but rather to address challenges if they arise.

iv. Objective Work Plan sub-criterion in Approach criterion. The description was expanded to clarify for applicants the instructions for completing the OWP form (OMB Control No. 0980-0204). (Legal authority: Section 803(a) and (d) and 803C of the Native American Programs Act of 1974, as amended, 42 U.S.C. 2991b and 2991b-3.)

The new FY 2009 PA text for Project Strategy will be:

Objective Work Plan (20 points): The ANA Objective Work Plan (OWP) form is the blueprint for the project. The OWP provides detailed descriptions of the project goal, the project objectives, supporting activities and the results and benefits to be expected. It provides the what, how, when, where and by whom of the project. As such, it is a stand-alone document that should provide sufficient information for an application reviewer, ANA staff or a project manager to understand the project and how it will be implemented. The OWP is the basis for reporting on the project.

A project cannot exceed three objectives per project period. Complete an ANA OWP form for each objective per budget period. If submitting an electronic application, some objectives will require more than one form. In addition, some objectives may last more than one budget period. Ensure that the objective is correctly stated in the OWP, the project narrative and on the ANA Abstract form.

The objective statement should contain the following basic elements: what will be accomplished during the project period and when it will be accomplished. Each objective should be Specific, Measurable, Achievable, Results-oriented and Time-bound (SMART).

For each objective, list activities that provide a road map to achieve the objective. Each activity is a step in the logical progression of the project. Include specific and significant activities (e.g., hiring staff, developing first draft), ongoing activities (e.g., meetings and classes), the type of activity (e.g., workshops, retreats and seminars), the type of audience, the submission of required ANA reports and attendance at ANA post-award training. Especially useful are activities that show progress and/or results on a quarterly basis. Explain how the activities outlined in the OWP will lead to the successful achievement of the project objectives and goal.

Identify the position responsible for the completion of each activity by identifying the title(s) of the salaried project staff person(s). Identify time periods that are realistic to complete each activity. Use elapsed times from the start of the project (e.g., month 1, month 2) rather than absolute dates. September 30 is the start date for each budget period. Identify the non-salary personnel hours, including non-salaried contributors (paid or in-kind) to the project. List hours according to who is providing them (e.g., Committee person-10 hours; ABC Consultant-5 hours). Provide supporting documentation for the hours listed in this column.

The preceding instructions are recommended for the OWP form found on the ANA Web site http://www.acf.hhs.gov/programs/ana/, which can be added as an attachment to an application on http://www.grants.gov. This form allows for an unlimited number of activities and characters so applicants can adequately communicate the project plan. For applicants using the form in www.grants.gov, note that each objective is limited to eight activities and each section has a limitation of 180 characters, which may not allow the applicant enough space to adequately communicate the project plan. Furthermore, those applicants that use www.grants.gov must use absolute dates for timeframe and can identify the source of the non-salaried personnel hours in the narrative. Therefore, it is recommended that applicants use the OWP available on the ANA Web site and attach the completed OWP to the http://www.grants.gov submission.

The results and benefits section of the OWP is used to track the grantee's quarterly progress of accomplishing an individual objective and should be broken down by quarter. The results and benefits must directly relate to the activities that support the accomplishment of an objective in the OWP. The results and benefits are used to monitor the project's quarterly progress and must include target numbers. The criteria for evaluating the results and benefits expected are of the applicant's choosing and need to be documented and verifiable.

v. Budget Justification/Cost Effectiveness sub-criterion in Budget and Budget Justification criterion. The first paragraph was expanded to clarify for applicants that a separate justification is requested for each budget period. (Legal authority: Section 803(a) and (d) and 803C of the Native American Programs Act of 1974, as amended, 42 U.S.C. 2991b and 2991b-3.)

The new first paragraph text for the FY 2009 PA Project Strategy will be:

Budget Justification/Cost Effectiveness (10 points): Submit justification narratives that support and align with the Federal and applicant match requirement. A budget justification narrative must be submitted for each budget period. The justification should identify how the calculations for each of the line items were developed and explain how they are important to the project. Include the necessary details to facilitate the determination of allowable costs and the relevance of these costs to the proposed project.

II. ANA FY 2009 Program Specific Changes. ANA FY 2009 PAs will be revised to break down Program subcategories into a stand-alone PA. ANA is developing individual PAs to comply with new guidance established by the Administration for Children and Families. Therefore, in FY 2009 ANA will publish nine PAs. Furthermore, to support this new requirement for separate PAs, it is necessary that ANA make additional programmatic changes to support and clarify each new PA.

(A) ANA Native Language Preservation and Maintenance: The former PA, Native Language Preservation and Maintenance, included all four separate program categories under one PA; namely, Native Language Preservation and Maintenance Assessment (hereinafter referred to as Native Language Assessment), Native Language Preservation and Maintenance Planning (hereinafter referred to as Native Language Planning), Native Language Preservation and Maintenance Implementation (hereinafter referred to as Native Language Implementation), Native Language Preservation and Maintenance Immersion (hereinafter referred to as Native Language Immersion). Except for where noted in this notice, these four PAs are the same as the 2008 Native Languages PA, but in order to clarify submission requirements and program areas for the public, ANA will now release each category as a separate PA. (Legal authority: Section 803(a) and (d) and 803C of the Native American Programs Act of 1974, as amended, 42 U.S.C. 2991b and 2991b-3 and Pub. L. 109-394.)

i. Native Language Assessment. The Executive Summary and Funding Area Description were revised to reflect the separation of priority areas. The Priority Area Description was revised to include analysis in language assessment. (Legal authority: Section 803(a) and (d) and 803C of the Native American Programs Act of 1974, as amended, 42 U.S.C. 2991b and 2991b-3 and Pub. L. 109-394.)

1. Executive Summary

The FY 2009 PA Executive Summary will be:

The Administration for Native Americans (ANA), within the Administration for Children and Families (ACF), announces the availability of Fiscal Year (FY) 2009 funds for new community-based activities under ANA's Native Language Preservation and Maintenance Assessment program area. Native Language Assessment grants are used to conduct the assessments necessary to identify the current status of the Native American language(s) to be addressed.

2. Funding Opportunity Description

Paragraphs seven and eight of the Funding Opportunity Description for the FY 2009 PA will be:

ANA will release four separate program announcements for funding opportunities for the Native Language Preservation and Maintenance program area: Native Language Preservation and Maintenance Assessment, Native Language Preservation and Maintenance Planning, Native Language Preservation and Maintenance Implementation and Native Language Preservation and Maintenance Immersion.

The ANA Native Language program areas of interest are projects that ANA considers supportive to Native American communities. Funding is not restricted to projects of the type listed in this program announcement.

3. Priority Area Description

The Priority Area Description for the FY 2009 PA will be:

The purpose of a Native Language Assessment project is to conduct an assessment of the current status of the Native language(s) within an established community. The program area of interest is:

• A project that compiles, collects, analyzes and organizes Native language data in order to have a current description of the community's language status obtained through a “formal” method (e.g., work performed by a linguist and/or a language survey conducted by community members) or an “informal method” (e.g., a community consensus of the language status based on elders, Tribal scholars and/or other community members).

ii. Native Language Planning. The Executive Summary and Funding Area Description were revised to reflect the separation of priority areas. The Priority Area Description was revised to include all areas of language program planning. (Legal authority: Section 803(a) and (d) and 803C of the Native American Programs Act of 1974, as amended, 42 U.S.C. 2991b and 2991b-3 and Pub. L. 109-394.)

1. Executive Summary

The FY 2009 PA Executive Summary will be:

The Administration for Native Americans (ANA), within the Administration for Children and Families (ACF), announces the availability of Fiscal Year (FY) 2009 funds for new community-based activities under ANA's Native Language Preservation and Maintenance Planning program area. Native Language Planning grants are used to plan a language project.

2. Funding Opportunity Description

Paragraphs seven and eight of the Funding Opportunity Description for FY 2009 PA will be:

ANA will release four separate program announcements for funding opportunities for the Native Language Preservation and Maintenance program area: Native Language Preservation and Maintenance Assessment, Native Language Preservation and Maintenance Planning, Native Language Preservation and Maintenance Implementation and Native Language Preservation and Maintenance Immersion.

The ANA Native Language program areas of interest are projects that ANA considers supportive to Native American communities. Funding is not restricted to projects of the type listed in this program announcement.

3. Priority Area Description

The Priority Area Description for FY 2009 PA will be:

The purpose of a Native Language Planning project is to encourage Tribes and Native organizations to plan and design Native language projects. Applicants are encouraged to develop a project that results in a comprehensive plan to preserve the Native language that uses current community language assessment data, reviews innovative methods that bring older and younger Native Americans together to teach and learn the language, and considers all essential elements needed to sustain and implement a language project. Planning projects are for planning and design only, and do not include activities that call for direct language learning or instruction. Testing of any material and curriculum developed is limited to a maximum of five students. Program areas of interest include:

• Projects to plan and design Master/Apprentice programs;

• Projects to plan and design comprehensive Native language immersion programs for a language nest or survival school;

• Projects that plan, design and test curriculum for students, parents and language instructors;

• Projects that plan and design teaching materials;

• Projects to record, transcribe and archive oral testimony;

• Projects to plan and design language resource materials using recorded oral testimony;

• Projects that plan and design multi-media language learning tools;

• Projects that plan and design teacher certification programs;

• Projects to train teachers, interpreters or translators of Native languages.

iii. Native Language Implementation. The Executive Summary and Funding Area Description were revised to reflect the separation of priority areas. The Priority Area Description was revised to identify all areas of language program implementation. (Legal authority: Section 803(a) and (d) and 803C of the Native American Programs Act of 1974, as amended, 42 U.S.C. 2991b and 2991b-3 and Pub. L. 109-394.)

1. Executive Summary

The FY 2009 PA Executive Summary will be:

The Administration for Native Americans (ANA), within the Administration for Children and Families (ACF), announces the availability of Fiscal Year (FY) 2009 funds for new community-based activities under ANA's Native Language Preservation and Maintenance Implementation program area. Native Language Implementation grants are used to implement a preservation language project that will contribute to the achievement of the community's long-range language goal(s).

2. Funding Opportunity Description

Paragraphs seven and eight of the Funding Opportunity Description for FY 2009 PA will be:

ANA will release four separate program announcements for funding opportunities for the Native Language Preservation and Maintenance program area: Native Language Preservation and Maintenance Assessment, Native Language Preservation and Maintenance Planning, Native Language Preservation and Maintenance Implementation and Native Language Preservation and Maintenance Immersion.

The ANA Native Language program areas of interest are projects that ANA considers supportive to Native American communities. Funding is not restricted to projects of the type listed in this program announcement.

3. Priority Area Description

The Priority Area Description for FY 2009 PA will be:

The purpose of Native Language Implementation grants is to provide support to Tribes and Native organizations in the implementation of a Native language project to achieve the community's long-range language goal(s). Program areas of interest include:

• Projects to produce and disseminate culturally relevant printed stories for children using the Native language of the community;

• Projects to facilitate and encourage intergenerational teaching of Native American language skills;

• Projects to disseminate culturally relevant materials to be used to teach and enhance the use of Native American languages;

• Projects to implement an immersion, mentor or distance learning model;

• Projects to produce, distribute or participate in television, radio or other media forms to broadcast Native languages;

• Projects to implement an educational site-based immersion project.

iv. Native Language Immersion. The Executive Summary and Funding Area Description were revised to reflect the separation of priority areas. Furthermore, in order to clearly identify the certification that is required at the time of application submission, a definition of certification was added and statements about the certification were included in the following sections: Forms, Assurances and Certifications, Program Areas of Interest and Organizational Profiles evaluation criterion. In addition, the weighted scores for the sub-criterion found in the Organizational Profiles evaluation criterion were changed to highlight the importance of the certification. (Legal authority: Section 803(a) and (d) and 803C of the Native American Programs Act of 1974, as amended, 42 U.S.C. 2991b and 2991b-3 and Pub. L. 109-394.)

1. Executive Summary

The FY 2009 PA Executive Summary will be:

The Administration for Native Americans (ANA), within the Administration for Children and Families (ACF), announces the availability of Fiscal Year (FY) 2009 funds for new community-based activities under ANA's Native Language Preservation and Maintenance Immersion program area. Native Language Immersion grants will only be awarded to applicants that meet the Statutory requirements for immersion projects with language nests or language survival schools in accordance with Public Law 109-394.

2. Funding Opportunity Description. To clarify the new PAs for language, paragraphs seven and eight were changed.

Paragraphs seven and eight of the Funding Opportunity Description for FY 2009 PA will be:

ANA will release four separate program announcements for funding opportunities for the Native Language Preservation and Maintenance program area: Native Language Preservation and Maintenance Assessment, Native Language Preservation and Maintenance Planning, Native Language Preservation and Maintenance Implementation and Native Language Preservation and Maintenance Immersion.

For the ANA Native Language Preservation and Maintenance Immersion program areas of interest, applicants must abide by the parameters established by Public Law 109-394.

3. Administrative Policies

An additional Administrative Policy will be added to FY 2009 PA:

Upon application submission, a certification is required that the applicant has not less than three years of experience in operating and administering a Native American language survival school, Native American language nest, or any other educational program in which instruction is conducted in a Native American language.

4. Definitions

An additional Definition will be added to FY 2009 PA:

Certification: A document on letterhead signed by the applicant that shows the applicant has not less than three years of experience in operating and administering a Native American language survival school, Native American language nest or any other educational program in which instruction is conducted in a Native American language. This document is required by statue in order to consider an applicant eligible for competition in this program area.

5. Program Area of Interest

An additional instruction will be included at the end of Program Area of Interest description in the FY 2009 PA:

A certification needs to be included by the applicant (please see certification definition).

6. Forms, Assurances and Certifications.

The instruction for the FY 2009 PA on certification required for Native Languages—Immersion projects will be:

The applicant must provide a certification by the applicant that the applicant has not less than three years of experience in operating and administering a Native American language survival school, Native American language nest or any other educational program in which instruction is conducted in a Native American language.

7. Evaluation Criteria—Organizational Profiles

The FY 2009 PA Organizational Profiles criterion will be:

ORGANIZATIONAL PROFILES—17 points

Organizational Capacity: This criterion will be evaluated to the extent the applicant demonstrates their organizational capacity and ability to staff and implement the proposed project.

Organizational Capacity (6 points): Provide information on the management structure of the applicant, such as personnel and financial policies. Describe the administrative structure of the applicant and the systems used to track the funding and progress of the project. Demonstrate the applicant's capacity and ability to administer and implement a project of the proposed scope. Include an organizational chart that indicates where the ANA project will fit in the existing administrative structure.

List all sources of Federal funding the applicant currently oversees. Include information on the funding agency, purpose of the funding and amount. Provide the most recent certified signed audit letter for the organization. If the applicant has audit exceptions, these issues should be discussed within this criterion, detailing any steps taken to overcome the exceptions.

Applicants are required to affirm that they will credit ANA and reference the ANA-funded project on any audio, video and/or printed materials developed in whole or in part with ANA funds.

A consortium applicant must identify the consortium membership and describe their roles and responsibilities. One member of the consortium must be the recipient of the ANA funds. A consortium applicant must be an eligible entity as defined by this program announcement and the ANA regulations. Include documentation signed by the membership supporting the ANA application. ANA will not fund activities by a consortium of Tribes that duplicate activities for which member Tribes also receive funding from ANA. Include a copy of the consortia legal agreement or memorandum of agreement.

List all of the applicant's current and existing partners that will be providing support to the project's implementation. Include information on the current organizational relationship between the applicant and partner. The experience and expertise of these partners must align with the activities stated in the OWP that they will be supporting. This information should state the nature, amount and conditions under which another agency, organization or individual will support a project funded by ANA.

Certification (6 points): Applicants applying for a Native Language Immersion grant must include the certification at the time the application is submitted for consideration. Applications will be reviewed to the extent that the following area specific wording is included on their Certification:

Native American language nest certification

The (Name of Applicant) is seeking funding from the Administration for Native Americans (ANA) under Native Language Preservation and Maintenance Immersion program for a site-based “Language Nest.” In accordance with Pub. L. 109-394, (Name of Applicant) certifies that it:

(1) Provides instruction and child care through the use of a Native American language for at least 10 children under the age of 7 for an average of at least 500 hours per year per student;

and

(2) provides classes in a Native American language for parents (or legal guardians) of students enrolled in a Native American language nest (including Native American language-speaking parents);

and

(3) ensures that a Native American language is the dominant medium of instruction in the Native American language nest;

and

(4) the applicant has not less than three years of experience in operating and administering a Native American language nest.

Certification for a Native American language nest should include all four requirements, be on letterhead and be signed by the applicant.

Native American language survival school certification

The (Name of Applicant) is seeking funding from the Administration for Native Americans (ANA) under Native Language Preservation and Maintenance Immersion program for a site-based survival school. In accordance with Public Law 109-394, (Name of Applicant) certifies that it:

(1) Provides an average of at least 500 hours of instruction through the use of one or more Native American languages for at least 15 students for whom a Native American survival school is their principal place of instruction;

and

(2) develops instructional courses and materials for learning Native American languages and for instruction through the use of Native American languages;

and

(3) provides for teacher training fluency in a Native American language and academic proficiency in mathematics, reading (or language arts) and science;

and

(4) is located in areas that have high numbers or percentages of Native American students;

and

(5) the applicant has not less than three years of experience in operating and administering a Native American language survival school.

Certification for a Native American language survival school should include all five requirements, be on letterhead and be signed by the applicant.

Project Staffing Plan (5 points): Provide staffing and position data that includes a proposed staffing pattern for the project. Describe the process and general timeframe to hire staff (such as advertising or recruiting from within the community). Explain how the current and future staff will manage the proposed project. Full project position descriptions are required to be submitted as an attachment. Brief biographies and/or resumes of identified key positions or individuals will be included as an attachment. Project positions discussed in this section must match the positions identified in the OWP and in the itemized budget. Note: Applicants are strongly encouraged to give preference to qualified Native Americans, in accordance with applicable laws, in hiring project staff and in contracting services under an approved ANA grant.

(B) Family Preservation—Improving the Well-Being of Children: In FY 2009, Family Preservation—Improving the Well-Being of Children (hereinafter referred to as Family Preservation) program area will replace the Native American Healthy Marriage Initiative program area. This action was taken to broaden the ANA Native American Healthy Marriage Initiative to include other children and family projects. In addition, as per the Administration for Children and Families requirement, two PAs will be published for FY 2009. The PAs reflect the two types of projects, project planning and project implementation. The changes identified below are to clearly identify the expanded scope of these program areas and separate the planning and implementation project categories. (Legal authority: Section 803(a) and (d) and 803C of the Native American Programs Act of 1974, as amended, 42 U.S.C. 2991b and 2991b-3.)

i. Family Preservation—Project Planning

a. Executive Summary

The FY 2009 PA Executive Summary will be:

The Administration for Native Americans (ANA), within the Administration for Children and Families (ACF), announces the availability of Fiscal Year (FY) 2009 funds for projects that plan for approaches to improve child well-being by removing barriers associated with strengthening families (including fatherhood, parenting, foster parenting, grandparents raising grandchildren and absentee parent activities), forming and preserving healthy families, relationships and marriages (including Traditional Native American and Pacific Basin marriages) and sustaining healthy families, relationships and marriages in Native American and Pacific Basin communities. ANA's FY 2009 goals and program areas of interest are focused on strengthening children, families and communities through financial assistance to community-based organizations including faith-based organizations, Tribes and Village governments.

The goals of the ANA Family Preservation PA is to increase the well-being of children through family preservation activities; increase the percentage of children who are raised in a healthy environment free of child abuse and neglect; increase the percentage of youth and young adults who have the skills and knowledge to make informed decisions about healthy relationships; increase the percentage of couples who are equipped with the skills and knowledge necessary to form and sustain healthy relationships and marriages; increase the percentage of children who are raised by two parents in a healthy family environment that is also free of domestic violence; increase the percentage of involvement by absentee parents in the lives of their children, increase public awareness in communities about the value of healthy families, relationships, marriages and responsible fatherhood and encourage and support research on healthy families, relationships and marriages and healthy marriage education.

b. Funding Opportunity Description

The FY 2009 PA Funding Opportunity Description will be:

This program announcement specifically promotes planning culturally competent strategies for strengthening families, fostering child well-being, healthy relationships and marriages and responsible fatherhood to preserve healthy families within the Native American and Pacific Basin Communities.

This program announcement seeks to fund projects that engage in the planning of approaches to remove barriers to forming lasting families, healthy relationships and healthy marriages in Native American and Pacific Basin communities. Projects funded under this program announcement will include activities that design and engage in a community planning process that identifies barriers to forming healthy families, relationships and marriages (including Traditional Native American and Pacific Basin marriages); assesses the needs and interest of the community to participate in a family strengthening project; assesses existing absentee parenting programs, fatherhood programs, grandparents raising grandchildren programs, and foster parent programs; identifies strategies to implement a family strengthening project; plans and develops curricula for family strengthening programs; and develops projects that are designed to reduce or eliminate the challenges and barriers identified by the community.

c. Priority Area Description

The FY 2009 PA Priority Area Description will be:

The purpose of a planning project is to engage in a community-based planning process that assesses the current status of available resources and barriers to family preservation, healthy relationships, healthy marriages and child well-being within an established Native American or Pacific Basin community. Applicants are encouraged to develop a project that results in a comprehensive plan that includes a community assessment of the challenges and barriers that negatively impact families, child well-being, relationships, marriages and parenting within Native American and Pacific Basin communities; identifies resources and partnerships; and develops a strategy to help sustain healthy families, relationships, marriages and responsible fatherhood within Native American and Pacific Basin communities. Eligibility for funding is restricted to projects of the type listed in this program announcement. Project Planning is for planning and design of projects only.

Applicants may only choose one or more program areas of interest from the list below:

Healthy Marriage

Projects that develop a

• Curriculum focused on pre-marital and marital education.

• Plan to provide youth education in high schools, youth organizations and community centers on the value of healthy relationships and marriages. This can include education on healthy relationship skills including conflict resolution, communication and commitment. Projects should use a pre-marital education focused on youth.

• Plan to offer marriage education and marriage skills, which may include relationship skills, communication skills, conflict resolution, commitment and parenting skills to expectant couples, both married and unmarried, absentee parents, as well as new parents, both married and unmarried.

• Plan to offer pre-marital education and marriage skills training for couples, individuals or engaged couples interested in marriage. Training would include a marital educational course and couples would learn the knowledge and skills (communication, conflict resolution, commitment) necessary to choose marriage for themselves if they so desire.

• Plan to provide marriage enhancement/enrichment and marriage skills training programs for married couples to improve or strengthen their relationship through a certified marital education course. The course should include lessons on communication, conflict resolution and commitment.

• Plan to use married couples as role models and mentors in at-risk communities to teach healthy relationship and marriage skills. Projects should include a marital educational course that emphasizes communication, commitment and conflict resolution; weekend retreats; and mentor groups.

• Plan to conduct research on the benefits of healthy relationships and marriages and healthy relationship and marriage education.

• Plan to provide public advertising campaigns in Native American and Pacific Basin communities on the value of healthy relationships and marriage as a way to improve relationships and marriages and strengthen family relationships.

Family Strengthening/Preservation

Projects that develop a

• Curriculum focused on responsible fatherhood and family preservation education (including parenting, foster parenting, grandparents raising grandchildren and absentee parent activities).

• Plan to provide youth education in high schools, youth organizations and community centers on the value of responsible fatherhood and family preservation.

• Plan to offer services to fathers to help them overcome barriers to positive involvement in their children's lives.

• Plan to offer education and activities focused on Responsible Fatherhood and Parenting.

• Plan to offer family preservation activities in a culturally appropriate and traditional manner within Native American and Pacific Basin communities.

• Plan to offer absentee parents services that help them to overcome barriers that prevent them from consistent involvement in their children's lives. Services would include activities that provide the absentee parents opportunities to interact with their children and increase parental involvement and also promote the value and importance of healthy families.

• Plan to offer education on communication and conflict resolution for absentee parents to improve the custodial and non-custodial parental relationship and increase absentee parents' involvement in their children's lives.

• Plan to reduce child/infant abuse and neglect and family domestic violence.

• Plan to address the needs of grandparents raising grandchildren.

• Plan to recruit, train and certify new Native American foster parents or promote appropriate extended family placements or to assist abused, neglected and abandoned Native American children, youth and their families.

• Plan to target family strengthening services to individuals with substance abuse issues as a way to support a strong healthy family environment.

• Plan to provide public advertising campaigns in Native American and Pacific Basin communities on the value of parental involvement, family preservation and responsible fatherhood as a way to strengthen family relationships.

d. Funding Restrictions

The following funding restriction will be added to the FY 2009 PA:

Counseling or therapeutic activities that are medically based.

e. Evaluation Criteria. Changes were made to the Approach evaluation criterion, specifically Project Strategy sub-criterion and Objective Work Plan sub-criterion.

The FY 2009 PA Project Strategy sub-criterion will be:

Project Strategy (10 points): Present a narrative on the project strategy and implementation plan (Objective Work Plan—see below*) for the entire project period. Be clear and concise. Provide a clear relationship between the proposed project goal and the project objectives. Discuss how the project objectives will support and assist the achievement of the project goal. Discuss how the project goal will support and assist the achievement of the community's long-range goals. Discuss how the current proposed project differs from previously ANA-funded projects which may be similar in nature to the current proposed project.

* See section I.C.iv Objective Work Plan sub-criterion in Approach Criterion in this NOI for the Objective Work Plan Instructions.

The FY 2009 PA Objective Work Plan sub-criterion will have the following text added:

If planning a project focused on healthy relationships, healthy marriages or fatherhood, include an activity to plan and design the Domestic Violence Protocol (see Definitions) the proposed project will use to identify and provide appropriate referral or services for individuals or couples where violence may be occurring.

ii. Family Preservation—Implementation Projects

a. Executive Summary

The FY 2009 PA Executive Summary will be:

The Administration for Native Americans (ANA), within the Administration for Children and Families (ACF), announces the availability of Fiscal Year (FY) 2009 funds for projects that implement approaches to improve child well-being by removing barriers associated with strengthening families (including fatherhood, foster parenting, absentee parent activities and grandparents raising grandchildren), forming and preserving healthy families, relationships and marriages (including Traditional Native American and Pacific Basin marriages). ANA's FY 2009 goals and program areas of interest are focused on strengthening children, families and communities through financial assistance to community-based organizations (including faith-based organizations, Tribes and Village governments).

The goal of the ANA Family Preservation PA is to increase the well-being of children through family preservation activities; increase the percentage of children who are raised in a healthy environment free of child abuse and neglect; increase the percentage of youth and young adults who have the skills and knowledge to make informed decisions about healthy relationships; increase the percentage of couples who are equipped with the skills and knowledge necessary to form and sustain healthy relationships and marriages; increase the percentage of children who are raised by two parents in a healthy family environment that is also free of domestic violence; increase the percentage of involvement by absentee parents in the lives of their children, increase public awareness in communities about the value of healthy families, relationships, marriages and responsible fatherhood; and encourage and support research on healthy families, relationships and marriages and healthy marriage education.

b. Funding Opportunity Description

The FY 2009 PA Funding Opportunity Description will be:

This program announcement specifically promotes implementing culturally competent strategies for strengthening families, fostering child well-being, healthy relationships and marriages, and responsible fatherhood to preserve healthy families within the Native American and Pacific Basin communities.

This program announcement seeks to fund projects that engage in the implementation of approaches to remove barriers to forming lasting families and healthy relationships and marriages in Native American and Pacific Basin communities. Projects funded under this program announcement will include activities that provide community resources such as family strengthening programs (fatherhood, parenting, absentee parental involvement, foster parenting and grandparents raising grandchildren); healthy relationships; healthy marriages (including Traditional Native American and Pacific Basin marriages); marriage education/enrichment training; pre-marital education; relationship skills education on communication, conflict resolution and commitment; and other support activities such as family outings, family strengthening groups, and weekend pre-marital/marital education and family retreats.

c. Priority Area Description

The FY 2009 PA Priority Area Description will be:

Family Preservation—Improving the Well-Being of Children Project Implementation

The purpose of an implementation project is to support a community-based project focused on family preservation, healthy relationships, marriage, parenting, foster parenting, grandparents raising grandchildren, fatherhood and absentee parent involvement in Native American and Pacific Basin communities. ANA will not fund curriculum development in an implementation project. Minor text and/or activity modification to existing curricula to make the curricula community-appropriate will be allowed in the first two months of an implementation project. Eligibility for funding is restricted to projects of the type listed in this program announcement. Project Implementation is for implementation of projects only.

Applicants may only choose one or more program areas of interest from the list below:

Healthy Marriage

• Projects that provide youth education in high schools, youth organizations and community centers on the value of healthy relationships and marriages. This can include education on healthy relationship skills, including conflict resolution, communication and commitment. Projects should use a pre-marital education focused on youth.

• Projects that offer marriage education and marriage skills, that may include relationship skills, communication skills, conflict resolution, commitment and parenting skills to expectant couples, both married and unmarried, absentee parents, as well as new parents, both married and unmarried.

• Projects that offer pre-marital education and marriage skills training for couples, individuals or engaged couples interested in marriage. Training would include a marital educational course and couples would learn the knowledge and skills (communication, conflict resolution, commitment) necessary to choose marriage for themselves if they so desire.

• Projects that provide marriage enhancement/enrichment and marriage skills training programs for married couples to improve or strengthen their relationship through a certified marital education course. The course should include lessons on communication, conflict resolution and commitment.

• Projects that use married couples as role models and mentors in at-risk communities to teach healthy relationship and marriage skills. Projects should include a marital educational course that emphasizes communication, commitment and conflict resolution; weekend retreats; and mentor groups.

• Projects that conduct research on the benefits of healthy relationships and marriages and healthy relationship and marriage education.

• Projects that provide public advertising campaigns in Native American, and Pacific Basin communities on the value of healthy relationships and marriage as a way to improve relationships and marriages and strengthen family relationships.

Family Strengthening/Preservation

• Projects that provide youth education in high schools, youth organizations and community centers on the value of responsible fatherhood and family preservation.

• Projects that offer services to fathers to help them overcome the barriers to positive involvement in their children's lives.

• Projects that offer education and activities focused on Responsible Fatherhood and Parenting.

• Projects that offer family preservation activities in a culturally appropriate and traditional manner within Native American and Pacific Basin communities.

• Projects that offer absentee parents services that help them to overcome barriers that prevent them from consistent involvement in their children's lives. Services would include activities that provide the absentee parents opportunities to interact with their children and increase parental involvement, and also promote the value and importance of healthy families.

• Projects that offer education on communication and conflict resolution for absentee parents to improve the custodial and non-custodial parental relationship and increase absentee parents' involvement in their children's lives.

• Projects to reduce child/infant abuse and neglect and family domestic violence.

• Projects that address the needs of grandparents raising grandchildren.

• Projects to recruit, train and certify new Native American foster parents or promote appropriate extended family placements or to assist abused, neglected, and abandoned Native American children, youth and their families.

• Projects that target family strengthening services to individuals with substance abuse issues as a way to support a strong healthy family environment.

• Projects that provide public advertising campaigns in Native American, and Pacific Basin communities on the value of parental involvement, family preservation and responsible fatherhood as a way to strengthen family relationships.

d. Funding Restrictions

The following funding restriction will be added to the FY 2009 PA:

Counseling or therapeutic activities that are medically based.

e. Evaluation Criteria. Changes were made to the Approach evaluation criterion, Project Strategy sub-criterion and Organizational Profiles, Project Staffing sub-criterion.

The FY 2009 PA Project Strategy sub-criterion will be:

Project Strategy (10 points): Present a narrative on the project strategy and implementation plan (Objective Work Plan—see below*) for the entire project period. Be clear and concise. Provide a clear relationship between the proposed project goal and the project objectives. Discuss how the project objectives will support and assist the achievement of the project goal. Discuss how the project goal will support and assist the achievement of the community's long-range goals. Discuss how the current proposed project differs from previously ANA-funded projects which may be similar in nature to the current proposed project.

Applicants should provide information on the curricula they will be utilizing within their project and how it is community appropriate to the project. ANA will not fund curriculum development in an implementation grant. Minor text and/or activity modification to existing curricula to make the curricula community-appropriate will be allowed in the first two months of an implementation project.

Applicants are required to discuss the Domestic Violence Protocol (see Definitions) that the proposed project will use to identify and provide appropriate referral or services for individuals or couples where violence is occurring if implementing a project focused on healthy relationships, healthy marriages or fatherhood. Applicants should be able to demonstrate knowledge of the information and services provided by domestic violence coalitions within the community.

* See section I.C.iv Objective Work Plan sub-criterion on Approach Criterion in this Notice Of Public Comment for the Objective Work Plan Instructions.

The FY 2009 PA Project Staffing Plan sub-criterion will be:

Project Staffing Plan (5 points): Provide staffing and position data that includes a proposed staffing pattern for the project. Describe the process and general timeframe to hire staff (such as advertising or recruiting from within the community). Explain how the current and future staff will manage the proposed project. Full project position descriptions are required to be submitted as an attachment. Brief biographies and/or resumes of identified key positions or individuals will be included as an attachment. Project positions discussed in this section must match the positions identified in the OWP and in the itemized budget. Note: Applicants are strongly encouraged to give preference to qualified Native Americans, in accordance with applicable laws, in hiring project staff and in contracting services under an approved ANA grant. Applicants should state any required training they will need in order to be certified in a particular curriculum. Certification should occur within the first two months of an implementation project.

(C) ANA SEDS: ANA FY 2009 PAs were revised from FY 2008 to split categories into separate PAs, according to Administration for Children and Families requirements. Therefore, ANA will publish two PAs, namely Social and Economic Development Strategies (hereinafter referred to as SEDS) and Social and Economic Development Strategies for Alaska (hereinafter referred to as SEDS-AK). (Legal authority: Section 803(a) and (d) and 803C of the Native American Programs Act of 1974, as amended, 42 U.S.C. 2991b and 2991b-3.)

i. SEDS. The Priority Area Descriptions for social projects were changed. The priority areas focused on family preservation have been moved to the Family Preservation program area, see previous section. (Legal authority: Section 803(a) and (d) and 803C of the Native American Programs Act of 1974, as amended, 42 U.S.C. 2991b and 2991b-3 and Pub. L. 109-394.)

Priority Area Description for Social Development

The FY 2009 PA Priority Area Description for Social Development Projects removes the following bullets:

• Projects to reduce child/infant abuse and neglect and family domestic violence.

• Projects that address the needs of grandparents raising grandchildren.

• Projects to recruit, train and certify new Native American foster parents or promote appropriate extended family placements or to assist abused, neglected and abandoned Native American children, youth and their families.

ii. SEDS-AK. The Executive Summary has been changed to reflect the new PA for SEDS-AK. A priority area for economic development projects was added addressing traditional energy activities. Three Priority Areas for social projects were removed to reflect their movement to the Family Preservation and Children program area, see previous section. (Legal authority: Section 803(a) and (d) and 803C of the Native American Programs Act of 1974, as amended, 42 U.S.C. 2991b and 2991b-3 and Pub. L. 109-394.)

1. Executive Summary

The FY 2009 PA Executive Summary will be:

The Administration for Native Americans (ANA), within the Administration for Children and Families (ACF), announces the availability of Fiscal Year (FY) 2009 funds for new community-based projects under the ANA Social and Economic Development Strategies for Alaska (SEDS-AK) program. ANA's FY 2009 SEDS-AK goals and program areas of interest are focused on strengthening children, families and communities through community-based organizations, Tribes and Village governments. The purpose of ANA is to promote the goal of economic and social self-sufficiency for American Indians, Native Hawaiians, Alaskan Natives and other Native American Pacific Islanders, including American Samoa Natives.

2. Priority Area Description for Economic Development

The FY2009 PA Priority Area Description for Economic Development Projects adds the following bullet:

• Projects to promote traditional energy activities and practices that support conservation and help to mitigate the high costs associated with the purchase, transportation, and storage of fuel in remote Alaskan Villages.

3. Priority Area Description for Social Development

The FY 2009 PA Priority Area Description for Social Development Projects removes the following bullets:

• Projects to reduce child/infant abuse and neglect and family domestic violence.

• Projects that address the needs of grandparents raising grandchildren.

• Projects to recruit, train and certify new Native American foster parents or promote appropriate extended family placements or to assist abused, neglected and abandoned Native American children, youth and their families.

(D) ANA ERE: The FY 2009 PA includes an additional instruction in the Approach evaluation criterion, Project Strategy sub-criterion. This change reflects the need for additional information related to the land area and natural resources over which the applicant has jurisdiction. (Legal authority: Section 803(a) and (d) and 803C of the Native American Programs Act of 1974, as amended, 42 U.S.C. 2991b and 2991b-3 and Pub. L. 109-394.)

The FY 2009 PA Approach evaluation criterion, Project Strategy sub-criterion will have the following statement added:

Applicants are required to describe a land base or other resources, e.g. , river or body of water, over which they exercise jurisdiction to implement Tribal regulation of environmental quality. Maps and photos of the area are encouraged.

Dated: November 30, 2008.
Quanah Crossland Stamps,
Commissioner, Administration for Native Americans.

[FR Doc. E8-30625 Filed 12-22-08; 8:45 am]

BILLING CODE 4184-01-P